DEPARTMENT OF THE INTERIOR

Bureau of Indian Affairs

Submission of Information Collection to Office of Management and Budget for Review Under the Paperwork Reduction Act

AGENCY: Bureau of Indian Affairs, Interior.

ACTION: Notice.

SUMMARY: This notice announces that the Information Collection Request for the Application for Training or Employment Assistance Form, OMB Control No. 1076-0062, has been submitted to the Office of Management and Budget (OMB) for approval under the provisions of the Paperwork Reduction Act of 1995.

DATES: Submit your comments and suggestions on or before March 3, 2003.

ADDRESSES: Written comments should be sent directly to the Office of Management and Budget, Office of Information and Regulatory Affairs, Attention: Desk Officer for the Department of the Interior, 725 17th Street NW., Washington, DC 20503.

Send a copy of your comments to Lynn Forcia, Bureau of Indian Affairs, Office of Economic Development, 1849 C Street NW., Mailstop 2412 MIB, Washington, DC 20240.

FOR FURTHER INFORMATION CONTACT: Copies of the information collection may be obtained by contacting Lynn Forcia at 202-219-5270. (This is not a toll free number.)

SUPPLEMENTARY INFORMATION:

I. Abstract

The information collection is necessary to assess the need to help adult Indians who reside on or near Indian reservations to obtain reasonable and satisfactory employment. The information collection documents provide information necessary to administer the program for Employment Assistance or Vocational Training. The Department is authorized to undertake a program of vocational training that provides vocational counseling, guidance, and training in any recognized vocation, apprenticeship, trade, or on-the-job training. The program is available to Indians who are not less than 18 years old and not more than 35 years old who reside on or near an Indian reservation. Public Law 84-959 and Public Law 88-230 authorize the BIA to enter into contracts or agreements with Federal, State, local government agencies or associations with apprenticeship programs or on-the-job training that leads to skilled employment. The same application form is used for both 25 CFR parts 26 and 27. Information of a confidential nature is protected by the Privacy Act. A request for comments on this information collection was published in the Federal Register on November 15, 2002 (67 FR 69238 ). No comments were received.

II. Request for Comments

Comments are invited on (a) whether the information collection is necessary for the proper performance of the functions of the agency, including whether the information will have practical utility; (b) the accuracy of the agency's estimate of the burden (hours and cost) of the collection of information, including the validity of the methodology and assumptions used; (c) ways to enhance the quality, utility and clarity of the information to be collected; and (d) ways to minimize the burden of the collection of the information on the respondents, including through the use of automated collection techniques or other forms of information technology.

The Office of Management and Budget has up to 60 days to approve or disapprove the information collection but may respond after 30 days; therefore, comments submitted in response to this notice should be submitted to OMB within 30 days in order to assure their maximum consideration.

Please note that all comments are available for public review during regular office hours. If you wish to have your name and/or address withheld, you must state this prominently at the beginning of your comments. We will honor your request to the extent allowed by law. All comments from businesses or representatives of businesses will be open for public review.

III. Data

Title: The Adult Vocational Training and Employment Assistance Program Application Form.

OMB approval number: 1076-0062.

Summary of Collection of Information: The collection of information provides pertinent data concerning the individual's training and employment background to determine eligibility for program services.

Frequency: Annually.

Description of respondents: Individual tribal members residing on or near reservations seeking training and employment assistance services.

Estimated completion time: ½ hour.

Number of Annual responses: 4,900.

Annual Burden hours: 2,450 hours.

Dated: January 17, 2003.
Aurene M. Martin,
Assistant Secretary—Indian Affairs.

[FR Doc. 03-2216 Filed 1-30-03; 8:45 am]

BILLING CODE 4310-4M-P